DEPARTMENT OF LABOR

Employment and Training Administration

[TA-W-61,780]

Harman/Becker Automotive Systems, Inc., Including On-Site Leased Workers From Elwood Staffing, Account Temps and PMI, Currently Known as Spartan Staffing Martinsville, IN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on July 20, 2007, applicable to workers of Harman/Becker Automotive Systems, Inc., Martinsville, Indiana. The notice was published in the Federal Register on August 2, 2007 (72 FR 42436).

At the request of the State agency, the Department reviewed the certification for workers of the subject firm. The workers were engaged in the production of automotive speakers.

New information shows that workers leased from Elwood Staffing, Account Temps and PMI, currently known as Spartan Staffing were employed on-site at the Martinsville, Indiana location of Harman/Becker Automotive Systems, Inc. The Department has determined that these workers were sufficiently under the control of Harman/Becker Automotive Systems, Inc. to be considered leased workers.

Based on these findings, the Department is amending this certification to include workers leased from Elwood Staffing, Account Temps and PMI, currently known as Spartan Staffing, working on-site at the Martinsville, Indiana location of the subject firm.

The intent of the Department's certification is to include all workers employed at Harman/Becker Automotive Systems, Inc. who were adversely affected by a shift in production of automotive speakers to Mexico.

The amended notice applicable to TA-W-61,780 is hereby issued as follows:

All workers of Harman/Becker Automotive Systems, Inc., including on-site leased workers from Elwood Staffing, Account Temps and PMI, currently known as Spartan Staffing, Martinsville, Indiana, who became totally or partially separated from employment on or after June 28, 2006 through July 20, 2009, are eligible to apply for adjustment assistance under Section 223 of the Trade Act of 1974, and are also eligible to apply for alternative trade adjustment assistance under Section 246 of the Trade Act of 1974.

Signed at Washington, DC this 25th day of February 2009.
Elliott S. Kushner,
Certifying Officer, Division of Trade Adjustment Assistance.

[FR Doc. E9-4542 Filed 3-3-09; 8:45 am]

BILLING CODE 4510-FN-P